DEPARTMENT OF HOUSING AND URBAN DEVELOPMENT

[Docket No. FR 5604-N-03]

Notice of Proposed Information Collection for Public Comment: FY 2012 Notice of Funding Availability (NOFA) for Rural Capacity Building Program

AGENCY: Office of the Community Planning & Development, U.S. Department of Housing & Urban Development.

ACTION: Notice of proposed information collection.

SUMMARY: The proposed information collection requirement described below has been submitted to the Office of Management and Budget (OMB) for review and approval, as required by the Paperwork Reduction Act. The Department is soliciting public comments on the subject proposal.

DATES: Comments due on or before June 22, 2012.

ADDRESSES: Interested persons are invited to submit comments regarding this proposal. Comments should refer to the proposal by name/or OMB approval number and should be sent to: William Kelleher, Paperwork Reduction Act Officer, Office of Community Planning & Development, Department of Housing and Urban Development, 451 7th Street SW., Room 7233, Washington, DC 20410.

FOR FURTHER INFORMATION CONTACT: Julie D. Hovden, Office of Community Planning and Development, telephone (202) 402-4496 (this is not a toll-free number).

SUPPLEMENTARY INFORMATION: The Department will submit the proposed information collection to OMB for review, as required by the Paperwork Reduction Act of 1995 (44 U.S.C. Chapter 35, as amended). This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond, including through the use of appropriate automated collection techniques or other forms of information technology (e.g., permitting electronic submission of responses).

The Consolidated and Further Continuing Appropriations Act for Fiscal Year 2012 (Pub. L. 112-55), provided $5 million for national organizations to develop the ability and capacity of rural communities to undertake community development and affordable housing projects and programs in rural areas. The national organizations must have expertise in rural housing, including experience working with rural housing organizations, local governments, and Indian tribes. Awardees will be selected through a competitive process, announced through a Notice of Funding Availability (NOFA) that announces the amount of Rural Capacity Building grant funds and the application criteria, including the rating and ranking system HUD will use to select grantees.

Title of Proposal: FY 2012 Notice of Funding Availability (NOFA) for Rural Capacity Building Program.

Description of the Need for the Information and Its Proposed Use: The Narratives associated with Rural Capacity Building program will allow CPD to accurately assess the experience, expertise, and overall capacity of national organizations with expertise in rural housing, including experience working with rural housing organizations, local governments, and Indian tribes. HUD requires information in order to ensure the eligibility of Rural Capacity Building program applicants and proposals, to rate and rank applications, and to select applicants for grant awards. The Rural Capacity Building NOFA requires applicants to submit specific forms and narrative responses.

OMB Control Number: 2506-Pending.

Agency Form Numbers: SF-424, HUD 424-CB, HUD 424-CBW, SF LLL,

Members of Affected Public: National not-for-profit organizations with expertise in rural housing, including experience working with rural housing organizations, local governments, and Indian tribes; State, Local or Tribal Governments.

| Number of respondents | Annual responses | Hours per response | Burden hours
Application | 30 | 1 | 40 | 1200

Status: New collection.

Authority: The Paperwork Reduction Act of 1995, 44 U.S.C. Chapter 35, as amended.

Dated: April 17, 2012.
Frances Bush,
Acting Deputy Assistant Secretary for Operations, Office of Community Planning & Development.

[FR Doc. 2012-9716 Filed 4-20-12; 8:45 am]

BILLING CODE 4210-67-P